DEPARTMENT OF TRANSPORTATION

Pipeline and Hazardous Materials Safety Administration

49 CFR Part 172

Hazardous Materials Table, Special Provisions, Hazardous Materials Communications, Emergency Response Information, Training Requirements, and Security Plans

CFR Correction

In Title 49 of the Code of Federal Regulations, Parts 100 to 177, revised as of October 1, 2015, in § 172.101, in the Hazardous Materials Table, reinstate the following entries:

1. On page 202, for “Cyanuric triazide”;

2. On page 211, for “Dinitrosobenzylamidine and salts of (dry)”;

3. On page 275, for “Power device, explosive, see Cartridges, power device”.

§ 172.101 Purpose and use of hazardous materials table.

* * * * *

Symbols | Hazardous materials descriptions and proper shipping names | Hazard class or division | Identification Nos. | PG | Label codes | Special provisions (§ 172.102) | (8) Packaging (§ 173.***): Exceptions | (8) Packaging (§ 173.***): Non-bulk | (8) Packaging (§ 173.***): Bulk | (9) Quantity limitations (see §§ 173.27 and 175.75): Passenger aircraft/rail | (9) Quantity limitations (see §§ 173.27 and 175.75): Cargo aircraft only | (10) Vessel stowage: Location | (10) Vessel stowage: Other
(1) | (2) | (3) | (4) | (5) | (6) | (7) | (8A) | (8B) | (8C) | (9A) | (9B) | (10A) | (10B)
* * * * * * *
| Cyanuric triazide | Forbidden
* * * * * * *
| Dinitrosobenzylamidine and salts of (dry) | Forbidden
* * * * * * *
| Power device, explosive, see Cartridges, power device
* * * * * * *

[FR Doc. 2016-12598 Filed 5-26-16; 8:45 am]

BILLING CODE 1505-01-D